DEPARTMENT OF TRANSPORTATION

Bureau of Transportation Statistics

[Docket No. BTS-2000-6845]

Request for OMB Clearance of an Information Collection; Customer Satisfaction Surveys

AGENCY: Bureau of Transportation Statistics, DOT.

ACTION: Notice.

SUMMARY: In accordance with the Paperwork Reduction Act of 1995, the Bureau of Transportation Statistics (BTS) intends to request approval from the Office of Management and Budget for an information collection, its Customer Satisfaction Surveys. Before submitting its request, BTS is publishing this notice to invite public comment on the continuing need and usefulness of BTS collecting this information.

DATES: You must submit your written comments by April 7, 2000.

ADDRESSES: Please send comments to the Docket Clerk, Docket No. BTS-2000-6845, Department of Transportation, 400 Seventh Street, SW., Room PL-401, Washington, DC 20590, from 10:00 a.m. to 5:00 p.m., Monday through Friday, except Federal holidays.

You only need to submit one copy. If you would like the Department to acknowledge receipt of the comments, you must include a self-addressed stamped postcard with the following statement: Comments on Docket BTS-2000-6845. The Docket Clerk will date stamp the postcard and mail it back to you. If you wish to file comments using the Internet, you may use the U.S. DOT Dockets Management System website at http://dms.dot.gov. Please follow the instructions online for more information. This website can also be used to read comments received.

FOR FURTHER INFORMATION CONTACT: Heather M. Contrino, Office of Statistical Programs and Services, Bureau of Transportation Statistics, 400 Seventh Street, SW., Washington, DC 20590, telephone number 202/366-6584, email heather.contrino@bts.gov.

SUPPLEMENTARY INFORMATION: Title: Customer Satisfaction Surveys.

OMB Control Number: 2139-0007.

Type of Request: Extension of a currently approved collection.

Needs and Uses: Executive Order 12862, Setting Customer Service Standards, directs BTS to conduct surveys to determine the kind and quality of services and products our customers want and their level of satisfaction with existing services and products. BTS will use the information it collects to improve product development and service delivery and determine whether additional products and services are needed.

Description of Survey Topics: In 1998 and 1999, the BTS Customer Survey Program included two surveys—the Product Evaluation Survey (PES) and the Customer Satisfaction Survey (CSS). The main objective of the PES was to give BTS a better understanding of the technical preferences and information needs of specific users. While it provided information on levels of customer satisfaction, the PES focused on products. The main objective of the CSS was to provide information about the overall satisfaction of BTS customers, the frequency of use of products and services, and specific information on how BTS is meeting various customer service criteria. Although the CSS addresses some product issues such as format compatibility and difficulty of use, those were not the main objectives of the survey.

In the next three years, BTS anticipates surveys in two areas—products and services. The product survey is a continuation of the CSS and PES and will sample the population of BTS customers who have ordered BTS products. The survey will obtain information on overall levels of customer satisfaction, technical preferences, and informational needs of customers. In addition, it will obtain feedback from customers on specific BTS products.

The services surveys will provide BTS with feedback on the services it provides to the general public and to other agencies in the Department of Transportation. Through these surveys, BTS will obtain feedback on the quality, completeness, utility, responsiveness, and timeliness of its Statistical Information Line, National Transportation Library, website, and BTS-sponsored workshops.

Burden Statement: The total annual respondent burden estimate is 1,665 hours. The number of respondents and average burden hour per response will vary with each survey.

Public Comments Invited: BTS requests comments regarding any aspect of this information collection, including, but not limited to: (1) The necessity and utility of the information collection for the proper performance of the functions of the Bureau of Transportation Statistics; (2) the accuracy of the estimated burden; (3) ways to enhance the quality, utility, and clarity of the collected information; and (4) ways to minimize the collection burden without reducing the quality of the collected information, including the use of automated collection techniques or other forms of information technology. BTS will summarize the comments submitted in response to this notice in its request for OMB clearance.

Susan Lapham,
Acting Associate Director for Statistical Programs and Services.

[FR Doc. 00-2676 Filed 2-4-00; 8:45 am]

BILLING CODE 4910-FE-P